ENVIRONMENTAL PROTECTION AGENCY

[EPA-HQ-OAR-2015-0827; FRL-9956-12-OAR]

Proposed Determination on the Appropriateness of the Model Year 2022-2025 Light-Duty Vehicle Greenhouse Gas Emissions Standards Under the Midterm Evaluation

AGENCY: Environmental Protection Agency (EPA).

ACTION: Notice of availability of a proposed order.

SUMMARY: On or about November 30, 2016, the Environmental Protection Agency (EPA) made available for public comment its proposed adjudicatory determination that the GHG standards currently in place for MY2022-2025 remain appropriate under the Clean Air Act and therefore should not be amended to be either more or less stringent. EPA made this Proposed Determination as part of its Midterm Evaluation of light-duty vehicle greenhouse gas (GHG) emissions standards for model years (MY) 2022-2025, as required under its regulations. The Proposed Determination follows a Draft Technical Assessment Report (TAR) issued jointly by EPA, the National Highway Traffic Safety Administration (NHTSA), and the California Air Resources Board (CARB) in July 2016. In the Draft TAR, the agencies examined a wide range of issues relevant to the appropriateness of the GHG emissions standards for MY2022-2025, and shared with the public its initial technical analyses of those issues. The Draft TAR was required by EPA's regulations as the first step in the Midterm Evaluation process. For the next step, the Proposed Determination, EPA has considered public comments submitted on the Draft TAR as well as other information, and has updated its analyses where appropriate. EPA will again consider public comments received on the Proposed Determination as it proceeds with the final step in the Midterm Evaluation, a Final Determination regarding the appropriateness of the MY2022-2025 standards.

DATES: Comments must be submitted on or before December 30, 2016. See the ADDRESSES and SUPPLEMENTARY INFORMATION section for more information about how to submit comments and where to find the Proposed Determination and related materials.

ADDRESSES: Submit your comments, identified by Docket ID No. EPA-HQ-OAR-2015-0827 to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will not consider comments or comment contents located outside of the submission to the official dockets (i.e., located elsewhere on the web, cloud, or in another file sharing system). For additional submission methods, the full EPA public comment policy, information about CBI or multimedia submissions, and general guidance on making effective comments, please visit http://www2.epa.gov/dockets/commenting-epa-dockets.

FOR FURTHER INFORMATION CONTACT: Christopher Lieske, Office of Transportation and Air Quality (OTAQ), Assessment and Standards Division (ASD), Environmental Protection Agency, 2000 Traverwood Drive, Ann Arbor, MI 48105; telephone number: (734) 214-4584; email address: lieske.christopher@epa.gov, fax number: 734-214-4816.

SUPPLEMENTARY INFORMATION:

Public Participation

The Proposed Determination and related materials are available in the public docket noted above and at https://www.epa.gov/regulations-emissions-vehicles-and-engines/midterm-evaluation-light-duty-vehicle-ghg-emissions. EPA requests comment on the Proposed Determination. This section describes how you can participate in this process.

1. How do I prepare and submit comments?

Direct your comments to Docket ID No. EPA-HQ-OAR-2015-0827. EPA's policy is that all comments received will be included in the public docket without change and may be made available online at www.regulations.gov, including any personal information provided, unless the comment includes information claimed to be Confidential Business Information (CBI) or other information whose disclosure is restricted by statute.

Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

2. Tips for Preparing Your Comments

When submitting comments, remember to:

• Identify the action by docket number and other identifying information (subject heading, Federal Register date and page number);

• Explain why you agree or disagree, suggest alternatives, and substitute language for your requested changes;

• Describe any assumptions and provide any technical information and/or data that you used;

• If you estimate potential costs or burdens, explain how you arrived at your estimate in sufficient detail to allow for it to be reproduced;

• Provide specific examples to illustrate your concerns, and suggest alternatives;

• Explain your views as clearly as possible, avoiding the use of profanity or personal threats.

Make sure to submit your comments by the comment period deadline identified in the DATES section above.

3. How do I submit confidential business information?

Do not submit CBI to EPA through http://www.regulations.gov or email. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

In addition, you should submit a copy from which you have deleted the claimed confidential business information to the Docket by one of the methods set forth above.

4. How can I read the comments submitted by other people?

You may read the materials placed in the docket for this document (e.g., the comments submitted in response to this document by other interested persons) at any time by going to http://www.regulations.gov. Follow the online instructions for accessing the dockets. You may also read the materials at the EPA Docket Center (details provided at https://www.epa.gov/dockets/epa-docket-center-reading-room).

You may read the materials placed in the docket for this document (e.g., the comments submitted in response to this document by other interested persons) at any time by going to http://www.regulations.gov. Follow the online instructions for accessing the dockets. You may also read the materials at the EPA Docket Center (details provided at https://www.epa.gov/dockets/epa-docket-center-reading-room).

Dated: November 30, 2016.
Gina McCarthy,
Administrator.

[FR Doc. 2016-29255 Filed 12-5-16; 8:45 am]

BILLING CODE 6560-50-P